DEPARTMENT OF HOMELAND SECURITY

Coast Guard

33 CFR Part 165

[Docket No. USCG-2023-0984]

Safety Zone; Marina del Rey, California

AGENCY: Coast Guard, Department of Homeland Security (DHS).

ACTION: Notification of enforcement of regulation.

SUMMARY: The Coast Guard will enforce a safety zone for a recurring firework event taking place December 31, 2023, in the Los Angeles-Long Beach Captain of the Port Zone. This action is necessary and intended to provide for the safety of life and property on navigable waterways during these events. During the enforcement period, the operator of any vessel in the regulated area must comply with directions from the Patrol Commander or any official patrol vessels displaying a Coast Guard ensign.

DATES: The regulations in 33 CFR 165.1125 will be enforced for the location identified in table 1 to § 165.1125 item 15 from 8 p.m. on December 31, 2023, through 1 a.m. on January 1, 2024.

FOR FURTHER INFORMATION CONTACT: If you have questions about this notification of enforcement, contact LCDR Kevin Kinsella, U.S. Coast Guard Sector Los Angeles—Long Beach by telephone (310) 467-2099 or email D11-SMB-SectorLALB-WWM@uscg.mil.

SUPPLEMENTARY INFORMATION: The Coast Guard will enforce a safety zone in 33 CFR 165.1125, Table 1 to § 165.1125, item 15, for New Year's Eve Fireworks, Los Angeles County, from 8 p.m. on December 31, 2023, to 1 a.m. on January 1, 2024. This action is being taken to provide for the safety of life on navigable waterways during this event. Our regulation for firework events within the Los Angeles Long Beach Captain of the Port zone, Table 1 to § 165.1125 item 15, specifies the location of the regulated area for the New Year's Eve Fireworks which encompasses portions of the Marina del Rey Harbor and Ballona Creek. During the enforcement periods, as reflected in § 165.1125, if you are the operator of a vessel in the regulated area you must comply with directions from the Patrol Commander or any Official Patrol displaying a Coast Guard ensign.

The Coast Guard recently published a proposed rule (88 FR 83511, November 30, 2023) and subsequent final rule titled “Safety Zone; Marina Del Rey, California” which proposed to add this event 15 to the table 1 to § 165.1125.

In addition to this notification of enforcement in the Federal Register, the Coast Guard plans to provide notification of this enforcement period via marine information broadcasts.

If the Captain of the Port Los Angeles—Long Beach determines that the safety zone need not to be enforced for the full duration stated in this notice, the Captain of the Port may use a Broadcast Notice to Mariners to reflect the change.

Dated: December 20, 2023.
R.D. Manning,
Captain, U.S. Coast Guard, Captain of the Port, Los Angeles—Long Beach.

[FR Doc. 2023-28631 Filed 12-27-23; 8:45 am]

BILLING CODE 9110-04-P